ENVIRONMENTAL PROTECTION AGENCY

[EPA-HQ-OPP-2005-0061; FRL-9363-9]

Azinphos-Methyl; Product Cancellation Order and Amendments To Terminate Uses; Amendment to Existing Stocks Provision

AGENCY: Environmental Protection Agency (EPA).

ACTION: Notice.

SUMMARY: EPA issued a notice in the Federal Register of February 20, 2008 concerning the cancellation of products containing azinphos-methyl (AZM). EPA corrected typographical errors to the cancellation order in the March 26, 2008 issue of the Federal Register. In the cancellation order, all sale, distribution, and use of products containing AZM was prohibited after September 30, 2012. However, due to unusual weather conditions in 2012 that prevented certain crops from developing, many growers were left with unused stocks of AZM. For this reason, on August 29, 2012, EPA amended the existing stocks provisions for only the use of AZM on apples, blueberries, cherries (tart and sweet), parsley, and pears to allow growers to use existing stocks of AZM in their possession for another year, through September 30, 2013. In this notice, EPA is publishing the August 29, 2012 amendment to the existing stocks provision of the cancellation order.

FOR FURTHER INFORMATION CONTACT: Tom Myers, Pesticide Re-evaluation Division (7508P), Office of Pesticide Programs, Environmental Protection Agency, 1200 Pennsylvania Ave. NW., Washington, DC 20460-0001; telephone number: (703) 308-8589; email address: myers.tom@epa.gov.

SUPPLEMENTARY INFORMATION:

I. General Information

A. Does this action apply to me?

The Agency included in the notice a list of those who may be potentially affected by this action.

B. How can I get copies of this document and other related information?

The docket for this action, identified by docket identification (ID) number EPA-HQ-OPP-2005-2005-0061, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What are the terms of the amended cancellation order?

On August 29, 2012, EPA amended the existing stocks provision of the cancellation order of February 20, 2008, (73 FR 9328), (FRL-8349-8), as corrected on March 26, 2008, (73 FR 16006), (FRL-8355-1) to provide growers with an additional year to use existing stocks of AZM. All the required mitigation measures now reflected on AZM labeling will remain in effect during this use. Distribution or sale of AZM after September 30, 2012, remains prohibited as provided in the February 20, 2008, cancellation order.

The specific terms of the August 29, 2012, existing stocks amendment are as follows:

EPA hereby modifies the cancellation order of February 20, 2008 (73 FR 9328, as amended at 73 FR 16006) to permit use of existing stocks of AZM products until September 30, 2013. Any use of such products must be in accordance with all terms of the previously approved labeling (other than the provisions prohibiting use after September 30, 2012). The distribution and sale provisions of the February 20, 2008 order remain unchanged and, therefore, any distribution or sale of AZM products is prohibited after September 30, 2012, except for purposes of proper disposal, reformulation, or export consistent with FIFRA section 17.

List of Subjects

Environmental protection, Azinphos-methyl, Pesticides and pests.

Dated: November 16, 2012.
Richard P. Keigwin, Jr.,
Director, Pesticide Re-evaluation Division, Office of Pesticide Programs.

[FR Doc. 2012-28725 Filed 11-27-12; 8:45 am]

BILLING CODE 6560-50-P